LIBRARY OF CONGRESS

Copyright Office

37 CFR Part 202

[Docket No. 2018-5]

Group Registration of Newspapers

AGENCY: U.S. Copyright Office, Library of Congress.

ACTION: Final rule.

SUMMARY: The U.S. Copyright Office is amending its regulation governing the deposit of published copies or phonorecords for the Library of Congress to correct an inadvertent error.

DATES: Effective June 1, 2018.

FOR FURTHER INFORMATION CONTACT: Robert J. Kasunic, Associate Register of Copyrights and Director of Registration Policy and Practice, or Erik Bertin, Deputy Director of Registration Policy and Practice, by telephone at 202-707-8040, or by email at rkas@loc.gov and ebertin@loc.gov; or Anna Bonny Chauvet, Assistant General Counsel, by telephone at 202-707-8350, or by email at achau@loc.gov.

SUPPLEMENTARY INFORMATION: On January 17, 2018, the Office published a final rule regarding the deposit requirements for certain types of literary works and musical compositions. 83 FR 2371 (Jan. 17, 2018) (“Deposit Requirements Final Rule”). Among other things, the Deposit Requirements Final Rule amended 37 CFR 202.19. On January 30, 2018, the Office published a final rule regarding the group registration of newspapers. 83 FR 4144 (Jan. 30, 2018 (“Group Newspaper Registration Final Rule”). The Group Newspaper Registration Final Rule also amended 37 CFR 202.19, but the amendments inadvertently eliminated a provision that had been added by the Deposit Requirements Final Rule. The Deposit Requirements Final Rule went into effect February 16, 2018. The Group Newspaper Registration Final Rule went into effect March 1, 2018.

Thus, the Copyright Office is amending 37 CFR 202.19 to correct this error.

List of Subjects in 37 CFR Part 202

Copyright.

Final Regulation

For the reasons set forth in the preamble, the Copyright Office amends 37 CFR part 202, as follows:

PART 202—PREREGISTRATION AND REGISTRATION OF CLAIMS TO COPYRIGHT

1. The authority citation for part 202 continues to read as follows:

Authority: 17 U.S.C. 408(f), 702.

2. Amend § 202.19 as follows:

a. Redesignate paragraph (d)(2)(ix) as paragraph (d)(2)(x).

b. Add a new paragraph (d)(2)(ix) to read as follows:

§ 202.19 Deposit of published copies or phonorecords for the Library of Congress.

* * * * *

(d) * * *

(2) * * *

(ix) In the case of published literary monographs, the deposit of one complete copy of the best edition of the work will suffice in lieu of the two copies required by paragraph (d)(1) of this section, unless the Copyright Office issues a demand for a second copy pursuant to 17 U.S.C. 407(d).

* * * * *

Dated: May 21, 2018.
Karyn A. Temple,
Acting Register of Copyrights and Director of the U.S. Copyright Office.
Approved by:
Carla D. Hayden,
Librarian of Congress.

[FR Doc. 2018-11841 Filed 5-31-18; 8:45 am]

BILLING CODE 1410-30-P